DEPARTMENT OF HEALTH AND HUMAN SERVICES

Administration on Aging

Agency Information Collection Activities; Submission for OMB Review; Comment Request; Extension of Current Program Announcement and Grant Application Template for Older Americans Act Title IV Discretionary Grants Program

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by June 7, 2010.

ADDRESSES: Submit written comments on the collection of information by fax 202.395.6974 to the OMB Desk Officer for AoA, Office of Information and Regulatory Affairs, OMB.

FOR FURTHER INFORMATION CONTACT: Lori Stalbaum, (202)357-3452 or lori.stalbam@aoa.hhs.gov.

SUPPLEMENTARY INFORMATION: In compliance with 44 U.S.C. 3507, AoA has submitted the following proposed collection of information to OMB for review and clearance.

AoA is requesting an extension of the currently approved Program Announcement and Application Instructions Template for the Older Americans Act Title IV Discretionary Grants Program. This template provides the requirements and instructions for the submission of an application for discretionary grants funding opportunities. The template may be found on the AoA Web site at http://www.aoa.gov/AoARoot/Grants/Funding/overview.aspx.

AoA estimates the burden of this collection of information as follows:

Frequency: 10-15 Title IV Program Announcements published annually.

Respondents: State agencies, public agencies, private non-profit agencies, institutions of higher education, and organizations including tribal organizations.

Estimated Number of Responses: 300 annually.

Total Estimated Burden Hours: 14,400.

Dated: May 4, 2010.
Kathy Greenlee,
Assistant Secretary for Aging.

[FR Doc. 2010-10910 Filed 5-6-10; 8:45 am]

BILLING CODE 4154-01-P